DEPARTMENT OF TRANSPORTATION

Federal Aviation Administration

14 CFR Part 39

[Docket No. FAA-2004-19989; Directorate Identifier 2004-NM-151-AD; Amendment 39-14037; AD 2005-07-13]

RIN 2120-AA64

Airworthiness Directives; Boeing Model 767-300 and -400ER Series Airplanes

Correction

In rule document 05-6689 beginning on page 17598 in the issue of Thursday, April 7, 2005, make the following corrections:

§39.13 [Corrected]

1. On page 17599, in the third column, section heading “ §3913 [Amended]” should read “§39.13 [Amended].”

2. On page 17600, in the first column, in §39.13(d), in the seventh line, “IFE cooling cared” should read “IFE cooling card.”

3. On the same page, in the same column, in §39.13(f), the ninth line should read “Special Attention Service Bulletin 767-21-0188 (for Boeing Model 767-300 series airplanes).”

4. On the same page , in the second column, in §39.13(i), in the fifth line the Web site address should read “http://www.archives.gov/federal register/code _of_ federal_regulations/ ibr_locations.html.”

[FR Doc. C5-6689 Filed 5-4-05; 8:45 am]

BILLING CODE 1505-01-D